DEPARTMENT OF HEALTH AND HUMAN SERVICES

Food and Drug Administration

21 CFR Part 510

New Animal Drugs; Change of Sponsor

Correction

In rule document 05-17472 beginning on page 52291 in the issue of Friday, September 2, 2005, make the following correction:

PART 510—[CORRECTED]

On page 52291, in the third column, in amendatory instruction 2., in the first line, “Section 510.60o” should read “Section 510.600”.

[FR Doc. C5-17472 Filed 10-3-05; 8:45 am]

BILLING CODE 1505-01-D